COMMODITY FUTURES TRADING COMMISSION

Sunshine Act Meeting

Agency Holding the Meeting: Commodity Futures Trading Commission.

Time and Date: 11 a.m., Friday, November 30, 2001.

Place: 1155 21st St., NW., Washington, DC 9th Floor Conference Room.

Status: Closed.

Matters to be Considered: Surveillance Matters.

Contact Person for More Information: Jean A. Webb, 202-418-5100.

Jean A. Webb,
Secretary of the Commission.

[FR Doc. 01-26415 Filed 10-16-01; 1:02 pm]

BILLING CODE 6351-01-M